DEPARTMENT OF HEALTH AND HUMAN SERVICES

Administration for Children and Families

Proposed Information Collection Activity; Comment Request

Title: Analysis of Engagement in Additional Work Activities and Expenditures on other Benefits and Services within the Temporary Assistance for Needy Families Program.

OMB No.: New collection.

Description: The Administration for Children and Families (ACE) is proposing an information collection activity as part of the Analysis of Engagement in Additional Work Activities and Expenditures on other Benefits and Services within the Temporary Assistance for Needy Families Program (TANF) project. The proposed information collection consists of semi-structured interviews with key state TANF respondents on questions of engagement in additional work activities and expenditures of other benefits and services.

Through this information collection, ACF seeks to elucidate the data presented in reports submitted by states to the ACF Office of Family Assistance (OFA) as required by the Claims Resolution Act of 2010. This collection is separate from the state reports to OFA required by the Act.

Respondents: State administrators responsible for the TANF Program.

Annual Burden Estimates
Instrument | Annual number of respondents | Number of responses per respondent | Average burden hours per response | Total annual burden hours
Discussion Guide for Use with State TANF officials | 40 | 2 | 8 | 640

Estimated Total Annual Burden Hours: 640.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade, SW., Washington, DC 20447, Attn: OPRE Reports Clearance Officer. E-mail address: OPREinfocollection@acf.hhs.gov. All requests should be identified by the title of the information collection.

The Department specifically requests comments on (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: February 8, 2011.
Steven M. Hanmer,
Reports Clearance Officer.

[FR Doc. 2011-3277 Filed 2-16-11; 8:45 am]

BILLING CODE 4184-09-M